DEPARTMENT OF TRANSPORTATION

Federal Aviation Administration

14 CFR Part 39

[Docket No. FAA-2006-25634; Directorate Identifier 2006-NM-143-AD]

RIN 2120-AA64

Airworthiness Directives; Airbus Model A300 Airplanes

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) issued by an airworthiness authority of another country to identify and correct an unsafe condition on an aviation product. The proposed AD would require actions that are intended to address the unsafe condition described in the MCAI.

DATES: We must receive comments on this proposed AD by September 18, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand delivery: Room PL-401 on the plaza level of the Nassif Building, 400 Seventh Street, SW., Washington, DC, between 9 a.m. and 5 p.m., Monday through Friday, except Federal holidays.

For service information identified in the proposed AD, contact Airbus, 1 Rond Point Maurice Bellonte, 31707 Blagnac Cedex, France.

FOR FURTHER INFORMATION CONTACT: Tom Stafford, Aerospace Engineer, International Branch, ANM-116, FAA, Transport Airplane Directorate, 1601 Lind Avenue, SW., Renton, Washington 98055-4056; telephone (425) 227-1622; fax (425) 227-1149.

SUPPLEMENTARY INFORMATION:

Streamlined Issuance of AD

The FAA is implementing a new process for streamlining the issuance of ADs related to MCAI. We are prototyping this process and specifically request your comments on its use. You can find more information in FAA draft Order 8040.2, “Airworthiness Directive Process for Mandatory Continuing Airworthiness Information,” which is currently open for comments at http://www.faa.gov/aircraft/draft_docs. This streamlined process will allow us to adopt MCAI safety requirements in a more efficient manner and will reduce safety risks to the public.

This process continues to follow all existing AD issuance processes to meet legal, economic, Administrative Procedure Act, and Federal Register requirements. We also continue to follow our technical decision-making processes in all aspects to meet our responsibilities to determine and correct unsafe conditions on U.S.-certificated products.

This proposed AD references the MCAI and related service information that we considered in forming the engineering basis to correct the unsafe condition. The proposed AD contains text copied from the MCAI and for this reason might not follow our plain language principles.

The comment period for this proposed AD is open for 30 days to allow time for comments on both the process and the AD content. In the future, ADs using this process will have a 15-day comment period, because the airworthiness authority and manufacturer have already published the documents on which we based our decision, making a longer comment period unnecessary.

Comments Invited

We invite you to send any written data, views, or arguments regarding this proposed AD. Send your comments to an address listed under the ADDRESSES section. Include the docket number, Docket No. FAA-2006-25634; Directorate Identifier 2006-NM-143-AD at the beginning of your comments. We specifically invite comments on the overall regulatory, economic, environmental, and energy aspects of the proposed AD. We are also inviting comments, views, or arguments on the new MCAI process. We will consider all comments received by the closing date and may amend the proposed AD in light of those comments.

We will post all comments we receive, without change, to http://dms.dot.gov, including any personal information you provide. We will also post a report summarizing each substantive verbal contact we receive concerning this proposed AD.

Discussion

The Direction Générale de l'Aviation Civile (DGAC), which is the airworthiness authority for France, has issued French Airworthiness Directive F-2005-157, dated September 14, 2005 (referred to after this as “the MCAI”), to correct an unsafe condition for the specified products. The MCAI states that the refined study of an in-service event has evidenced the need to perform a periodic test of pitch trim system 2. In the conditions of overriding the automatic pitch torque limiter, the clutch of the pitch trim servo-motor 1 is opened so that electric pitch trim system 1 will disconnect. The question is pending about the availability of the system 2 and its capability to take over the pitch trim function, particularly during a go-around. Failure of pitch trim system 2 to deflect the trimmable horizontal stabilizer (THS) at maximum rate could result in loss of high-speed trim and consequent reduced controllability of the airplane. The MCAI renders mandatory a periodic test to ensure the availability of the pitch trim system 2 and its possibility to deflect the THS at high speed of trim. You may obtain further information by examining the MCAI in the docket.

Relevant Service Information

Airbus has issued Service Bulletin A300-22-0121, dated July 11, 2005. The actions described in this service information are intended to correct the unsafe condition identified in the MCAI.

FAA's Determination and Requirements of the Proposed AD

This product is manufactured outside the United States and is type certificated for operation in the United States under the provisions of section 21.29 of the Federal Aviation Regulations (14 CFR 21.29) and the applicable bilateral agreement. Pursuant to this bilateral airworthiness agreement, the State of Design's airworthiness authority has notified us of the unsafe condition described in the MCAI and service information referenced above. We have examined the airworthiness authority's findings, evaluated all pertinent information, and determined an unsafe condition exists and is likely to exist or develop on all products of this type design. We are issuing this proposed AD to correct the unsafe condition.

Differences Between the Proposed AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have proposed different actions in this AD from those in the MCAI in order to follow FAA policies. Any such differences are described in a separate paragraph of the proposed AD. These proposed requirements, if ultimately adopted, will take precedence over the actions copied from the MCAI.

Costs of Compliance

Based on the service information, we estimate that this proposed AD would affect about 29 products of U.S. registry. We also estimate that it would take about 1 work hour per product to do the periodic test and 3 work hours to do the repair and follow-on test, and that the average labor rate is $80 per work hour. Required parts would cost $0 per product. Where the service information lists required parts costs that are covered under warranty, we have assumed that there will be no change for these costs. As we do not control warranty coverage for affected parties, some parties may incur costs higher than estimated here. Based on these figures, we estimate the cost of the proposed AD on U.S. operators to be $2,320, or $80 per product.

Authority for This Rulemaking

Title 49 of the United States Code specifies FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2006-25634; Directorate Identifier 2006-NM-143-AD.

Comments Due Date

(a) We must receive comments on this airworthiness directive (AD) by September 18, 2006.

Affected ADs

(b) None.

Applicability

(c) This AD applies to Airbus A300 aircraft, all certified models and all serial numbers, certificated in any category; except for Models A300 B4-203 and A300 B2-203 in forward facing crew cockpit certified configuration.

Reason

(d) The refined study of an in-service event has evidenced the need to perform a periodic test of pitch trim system 2. In the conditions of overriding the automatic pitch torque limiter, the clutch of the pitch trim servo-motor 1 is opened so that electric pitch trim system 1 will disconnect. The question is pending about the availability of the system 2 and its capability to take over the pitch trim function, particularly during a go-around. Failure of pitch trim system 2 to deflect the trimmable horizontal stabilizer (THS) at maximum rate could result in loss of high-speed trim and consequent reduced controllability of the airplane. For such reason, this AD renders mandatory a periodic test to ensure the availability of the pitch trim system 2 and its possibility to deflect the THS at high speed of trim.

Actions and Compliance

(e) Unless already done, do the following actions except as stated in paragraph (f) below:

(1) Within 250 flight hours after the effective date of this AD: Perform an operational test of pitch trim system 2 in high speed of trim configuration and if system 2 does not function as specified in the instructions of Airbus Service Bulletin A300-22-0121, dated July 11, 2005; before further flight, return the system to correct operating condition in accordance with the instructions of the service bulletin.

(2) The operational test, followed if necessary by the corrective action described in the paragraph above, is to be repeated at intervals not exceeding 1,000 flight hours in accordance with the instructions of Airbus Service Bulletin A300-22-0121, dated July 11, 2005.

FAA AD Difference

(f) When complying with this AD, do the following: Although the Accomplishment Instructions of the referenced service bulletin describes procedures for submitting certain information to the manufacturer, this AD does not include that requirement.

Other FAA AD Provisions

(g) The following provisions also apply to this AD:

(1) Alternative Methods of Compliance (AMOCs): The Manager, International Branch, ANM-116, Transport Airplane Directorate, FAA, ATTN: Tom Stafford, Aerospace Safety Engineer, International Branch, ANM-116, Transport Airplane Directorate, FAA, 1601 Lind Avenue, SW., Renton, Washington 98055-4056; telephone (425) 227-1622; fax (425) 227-1149; has the authority to approve AMOCs for this AD, if requested using the procedures found in 14 CFR 39.19.

(2) Notification of Principal Inspector: Before using any AMOC approved in accordance with 14 CFR 39.19 on any airplane to which the AMOC applies, notify the appropriate principal inspector in the FAA Flight Standards Certificate Holding District Office.

(3) Return to Airworthiness: When complying with this AD, perform FAA-approved corrective actions before returning the product to an airworthy condition.

Related Information

(h) This AD is related to MCAI French airworthiness directive F-2005-157, dated September 14, 2005, which references Airbus Service Bulletin A300-22-0121, dated July 11, 2005, for information on required actions.

Issued in Renton, Washington, on August 7, 2006.
Ali Bahrami,
Manager, Transport Airplane Directorate, Aircraft Certification Service.

[FR Doc. E6-13647 Filed 8-17-06; 8:45 am]

BILLING CODE 4910-13-P